FEDERAL COMMUNICATION COMMISSION

47 CFR Part 73

[DA No. 00-1208, MM Docket No. 97-116; RM 9050 and RM 9123]

Radio Broadcasting Services; Everglades City, LaBelle, Key West, and Estero, FL; Correction

AGENCY: Federal Communications Commission.

ACTION: Final rule; correction.

SUMMARY: The Federal Communications Commission published in the Federal Register of June 16, 2000, a document concerning Radio Broadcasting Services in Everglades City, LaBelle, Key West, and Estero, FL. This document contains a correction to that rule.

DATES: Effective July 17, 2000.

FOR FURTHER INFORMATION CONTACT: Orlando Ardon, Office of Managing Director, 202-418-0310.

SUPPLEMENTARY INFORMATION: This document corrects FR Doc. 00-15261, published on June 16, 2000, (65 FR 37709).

On page 37709, in the third column, in § 73.202(b), amendatory instruction No. 2 is corrected to read as follows:

PART 73—[CORRECTED]

§ 73.202 [Corrected]

2. Section 73.202(b), the Table of FM Allotments under Florida, is amended by removing LaBelle, Channel 223A and adding Estero, Channel 223C3 and by removing Channel 223C1 and adding Channel 224C1 at Key West.

Federal Communications Commission.
William F. Caton,
Deputy Secretary.

[FR Doc. 00-25173 Filed 9-28-00; 8:45 am]

BILLING CODE 6712-01-U